DEPARTMENT OF VETERANS AFFAIRS

Geriatrics and Gerontology Advisory Committee; Notice of Meeting

The Department of Veterans Affairs gives notice under Public Law 92-463 (Federal Advisory Committee Act) that a meeting of the Geriatrics and Gerontology Advisory Committee (GGAC) will be held on September 19-20, 2007, in Room 930 at the VA Central Office, 810 Vermont Avenue, NW., Washington, DC. On September 19 the session will be from 8:30 a.m. and until 5 p.m., and on September 20 from 8 a.m. and until 12 noon. This meeting is open to the public.

The purpose of the Committee is to provide advice to the Secretary of Veterans Affairs and the Under Secretary for Health on all matters pertaining to geriatrics and gerontology by assessing the capability of VA health care facilities and programs to meet the medical, psychological and functional needs of older veterans and by evaluating VA programs designated as Geriatric Research, Education, and Clinical Centers (GRECCs).

The meeting will feature presentations and discussion on VA's aging research activities, update on VA's geriatric workforce (to include training, recruitment and retention approaches), VHA Primary Care and Geriatric Primary Care, recent VHA efforts regarding dementia and delirium, and performance oversight of the VA Geriatric Research, Education, and Clinical Centers.

No time will be allocated at this meeting for receiving oral presentations from the public. Interested parties can provide written comments for review by the Committee not less than ten days in advance of the meeting to Mrs. Marcia Holt-Delaney, Office of Geriatrics and Extended Care (114), Department of Veterans Affairs, 810 Vermont Avenue, NW., Washington, DC 20420. Individuals who wish to attend the meeting should contact Mrs. Holt-Delaney, Program Analyst, at (202) 273-8540, at least seven days in advance of the meeting.

Dated: July 6, 2007.
By Direction of the Secretary.
E. Philip Riggin,
Committee Management Officer.

[FR Doc. 07-3362 Filed 7-10-07; 8:45 am]

BILLING CODE 8320-01-M